DEPARTMENT OF VETERANS AFFAIRS

[OMB Control No. 2900—NEW]

Proposed Information Collection (Application for Adaptive Sports Grant) Activity: Comment Request

AGENCY: Veterans Health Administration, Department of Veterans Affairs.

ACTION: Notice.

SUMMARY: The Office of Public and Intergovernmental Affairs (OPIA), Department of Veterans Affairs (VA), is announcing an opportunity for public comment on the proposed collection of certain information by the agency. Under the Paperwork Reduction Act (PRA) of 1995, Federal agencies are required to publish notice in the Federal Register concerning each proposed collection of information and allow 60 days for public comment in response to the notice. This notice solicits comments on the information needed for the Grants for Adaptive Sports Programs for disabled Veterans and Members of the Armed Forces (ASG Program) to provide grant funding to organizations to expand the quantity and quality of adaptive sport activities for disabled Veterans and members of the Armed Forces to participate in physical activity within home communities, and advanced Paralympic and adaptive sport programs at the regional and national levels.

DATES: Written comments and recommendations on the proposed collection of information should be received on or before November 30, 2015.

ADDRESSES: Submit written comments on the collection of information through Federal Docket Management System (FDMS) at www.Regulations.gov; or Joshua McCoy, Office of Public and Intergovernmental Affairs (002C), Department of Veterans Affairs, 810 Vermont Avenue NW., Washington, DC 20420 or email: Joshua.McCoy2@va.gov. Please refer to “Application for Adaptive Sports Grant, OMB Control No. 2900—NEW” in any correspondence. During the comment period, comments may be viewed online through the FDMS.

FOR FURTHER INFORMATION CONTACT: Joshua McCoy at (202) 461-0456.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OPIA invites comments on: (1) Whether the proposed collection of information is necessary for the proper performance of OPIA's functions, including whether the information will have practical utility; (2) the accuracy of OPIA's estimate of the burden of the proposed collection of information; (3) ways to enhance the quality, utility, and clarity of the information to be collected; and (4) ways to minimize the burden of the collection of information on respondents, including through the use of automated collection techniques or the use of other forms of information technology.

Titles: Application for Adaptive Sports Grant.

OMB Control Number: 2900—NEW.

Type of Review: New Collection Request.

Abstract: Legal authority for this data collection is found under 38 U.S.C. 521A that authorizes and mandates the collection of data during the grant application, implementation to include quarterly and annual reporting, and closeout phases of the adaptive sports grant. Mandated collection of data allows measurement and evaluation of the adaptive sports grant program, the goal of which is providing adaptive sport opportunities for disabled veterans and members of the Armed Forces.

The information will be used by VA to evaluate multiple criteria to confirm grantee eligibility, to score grantee proposals according to application criteria, and to ensure program efficacy and appropriate use of grant funds. The application information will indicate whether and to what extent a grant program is likely to be successful in meeting the program's intent for providing adaptive sports opportunities for disabled veterans and members of the Armed Forces.

Affected Public: Private Sector.

Estimated Annual Burden: 2,133 burden hours.

Estimated Average Burden per Respondent: 38 CFR 77 Template: 120 minutes; VA Form 10096: 20 minutes.

Frequency of Response: Quarterly.

Estimated Number of Respondents: 250.

By direction of the Secretary.
Kathleen M. Manwell,
VA Privacy Service, Office of Privacy and Records Management, Department of Veterans Affairs.

[FR Doc. 2015-24743 Filed 9-29-15; 8:45 am]

BILLING CODE 8320-01-P